Title 3—

The President

Proclamation 8190 of October 12, 2007

National School Lunch Week, 2007

By the President of the United States of America

A Proclamation

The National School Lunch Program provides millions of lunches to our Nation's children each school day. During National School Lunch Week, we renew our commitment to the health of our children and to ensuring that they receive nutritious meals and develop good eating habits.

Since it began in 1946, the National School Lunch Program has provided nutritious meals in schools across the country. The United States Department of Agriculture (USDA) has worked to ensure that these meals include fresh fruits, vegetables, and milk and that they meet dietary recommendations so children limit fat, sodium, cholesterol, and excess calories in their diet.

By learning to eat well, children can avoid problems that can lead to serious long-term health problems, including heart disease, asthma, and diabetes. Team Nutrition, part of the USDA Food and Nutrition Service, is playing an important role in promoting good nutrition to children in thousands of our Nation's schools, providing training and resources to food service professionals across our country.

National School Lunch Week is an opportunity to recognize food service professionals, school officials, and parents for their dedicated efforts to provide healthy foods to America's children. This week, we recommit ourselves to encouraging children to make nutritious food choices and lead healthy lifestyles.

In recognition of the contributions of the National School Lunch Program to the health, education, and well-being of America's children, the Congress, by joint resolution of October 9, 1962 (Public Law 87-780), as amended, has designated the week beginning on the second Sunday in October of each year as “National School Lunch Week” and has requested the President to issue a proclamation in observance of this week.

NOW, THEREFORE, I, GEORGE W. BUSH, President of the United States of America, do hereby proclaim the week of October 14 through October 20, 2007, as National School Lunch Week. I call upon all Americans to join the dedicated individuals who administer the National School Lunch Program in appropriate activities that support the health and well-being of our Nation's children.

IN WITNESS WHEREOF, I have hereunto set my hand this twelfth day of October, in the year of our Lord two thousand seven, and of the Independence of the United States of America the two hundred and thirty-second.

[FR Doc. 07-5139

Filed 10-15-07; 8:53 am]

Billing code 3195-01-P